DEPARTMENT OF DEFENSE

Corps of Engineers, Department of the Army

Intent To Prepare a Draft Environmental Impact Statement (DEIS) for a Proposed Special Area Management Plan for the Otay River Watershed, San Diego County, CA

AGENCY: U.S. Army Corps of Engineers, (DoD).

ACTION: Notice of intent.

SUMMARY: The U.S. Army Corps of Engineers (Corps of Engineers) is announcing its intent to prepare a Draft Environmental Impact Statement (DEIS) for a Special Area Management Plan (SAMP). The SAMP is being developed to address potential effects of anticipated development, infrastructure, and maintenance projects on aquatic resources in the Otay River Watershed (SAMP study area). The DEIS will assess the impacts of various land development and aquatic resource protection alternatives as set forth below and further identified during the preparation of the SAMP. It is anticipated that the DEIS will be utilized by the local agencies in lieu of an Environmental Impact Report (EIR) pursuant to the California Environmental Quality Act (CEQA).

The SAMP will provide a comprehensive plan for protecting and enhancing aquatic resources while providing for the permitting of reasonable economic development and public infrastructure, consistent with the goals and objectives of local land use plans and with the regional Multiple Species Conservation Plan (MSCP) for southwestern San Diego County developed by local governments in collaboration with the U.S. Fish and Wildlife Service and California Department of Fish and Game. The SAMP will provide a framework for a long-term program-level permitting process for projects in the watershed subject to the Corps of Engineers' permit authority under Section 404 of the Clean Water Act (CWA). Section 404 of the CWA regulates the discharge of dredged or fill material into waters of the United States, including wetlands. The SAMP may also be utilized by other agencies in the administration of their regulatory programs, including the California Department of Fish and Game (i.e., Section 1600 et seq. of the Fish and Game Code) and the Regional Water Quality Control Board (i.e., Section 401 of the CWA).

In addition, the SAMP will include a comprehensive program involving conservation, restoration, and management of aquatic resources within the study area.

FOR FURTHER INFORMATION CONTACT: Questions about the proposed action and DEIS can be answered by: Ms. Laurie Monarres, Otay River SAMP Project Manager, (858) 674-5384, laurie.a.monarres@usace.army.mil, Regulatory Division (CESPL-RG), U.S. Army Corps of Engineers, Los Angeles District, San Diego Field Office, 16885 West Bernardo Drive, Suite 300A.

SUPPLEMENTARY INFORMATION: 1. Proposed Action: The Corps of Engineers utilizes Special Area Management Plans to assist in long-term planning for regulatory actions under Section 404 of the CWA that involve large areas, complex projects, and sensitive aquatic resources. The subject SAMP study area consists of the Otay River Watershed in southwestern San Diego County.

The SAMP will describe an approach and a set of actions to preserve, enhance, and restore aquatic resources, while allowing reasonable economic development and construction and maintenance of public infrastructure facilities within the study area. Key objectives of the SAMP for the Otay River Watershed are to: (1) Evaluate the extent and condition of existing aquatic resources; (2) develop a comprehensive reserve program for the protection, enhancement, restoration and management of aquatic resources; and (3) identify and evaluate alternative land development scenarios in the context of the aquatic resource reserve program. Based on the SAMP, the Corps of Engineers will identify potential areas and/or activities suitable for authorization using abbreviated, program-level permitting procedures under Section 404 of the CWA. Activities that may be authorized using such program-level permitting procedures include, but are not limited to, the construction of public and private infrastructure, such as roads, flood control projects and utilities; operation and maintenance of public and private facilities; residential, commercial, industrial, and recreational development; and restoration, enhancement, and creation of aquatic resources. The Corps of Engineers will jointly develop the SAMP with other public agencies, including the County of San Diego and the Cities of Chula Vista, and Imperial Beach. In addition, the Corps of Engineers and County of San Diego will coordinate with the U.S. Fish and Wildlife Service, the U.S. Environmental Protection Agency, the California Department of Fish and Game, and the California Regional Water Quality Control Boards as appropriate. The Corps of Engineers encourages active participation by affected interests, including landowners and the general public.

The County of San Diego and the cities of Chula Vista, and Imperial Beach will seek a Master Streambed Alteration Agreement (MSAA) under section 1600 et seq. of the California Fish and Game Code for activities in the SAMP study area that affect lakes, rivers, streams, and associated riparian habitats subject to the Department's jurisdiction. The documentation necessary to support a MSAA will be developed in close coordination with the California Department of Fish and Game.

The environmental review of the SAMP/MSAA will be conducted through an EIS. The County of San Diego will serve as the lead agency for the purpose of environmental review pursuant to the California Environmental Quality Act (CEQA) for the actions described in the SAMP/MSAA. The Corps of Engineers and the County of San Diego will work cooperatively to prepare the EIS document, and to coordinate the public notice and hearing processes under federal and state law.

2. Alternatives: Alternatives that may be considered include the following two categories:

I. No-SAMP alternatives (also called No-Action alternatives):

(a) No Action (No SAMP). This alternative contemplates that no SAMP would be developed and that permitting under Section 404 of the CWA would proceed on a project-by-project basis. Under the alternative, each individual project would be required to obtain, as needed, permits from the Army Corps of Engineers.

(b) No Federal Action/No Impacts to Waters of the U.S. (Full Realization of General Plans). This alternative would require avoidance of impacts to waters of the United States, eliminating the need for the issuance of Corps permits. To support the level of development contemplated by local general plans, this alternative could involve changes to existing specific plans and other land use documents to accommodate higher density development and new infrastructure.

(c) No Federal Action/No Impacts to Waters of the U.S. (Partial Realization of General Plans). This alternative would require avoidance of impacts to waters of the United States and eliminate the need for the issuance of Corps permits. Under this alternative, build-out of the elements of local government general plans affecting the Otay River Watershed would be reduced by a level commensurate with the avoidance of areas containing jurisdictional resources.

II. SAMP alternatives:

(a) Existing General Plans/MSCP. This alternative reflects land uses designated in current general plans and other adopted plans. Land uses would proceed as currently anticipated in the participating local governments' existing land use plans and would require permits under Section 404 in some cases. Conserved aquatic resources would be limited to preserve areas identified by the MSCP.

(b) Updated General Plans/MSCP. Under this alternative, the likely changes in land use type and location that would occur under the revised General Plans for the City and County of San Diego would be analyzed. Conserved aquatic resources would be limited to preserve areas identified by the MSCP.

(c) Maximum Open Space/Minimal Development. One or more alternatives would analyze land use scenarios that would result in greater set asides of open space and lower levels of development than currently anticipated for the watershed. The alternative(s) may, for instance, consider the elimination of certain specific plans and other high-density development projects to reduce the impacts of development and gain additional open space in the watershed.

(d) Maximum Development/Minimal Open Space. One or more alternatives would analyze land use scenarios that would result in higher levels of development and lower levels of open space. The alternative(s) may consider high intensity development in areas otherwise zoned for open space, agriculture, or low density development.

(e) Subbasin Development/Open Space Scenarios. One or more alternatives would analyze land use scenarios on a subbasin-by-subbasin basis with the goal of protecting subbasin and watershed riparian ecosystem integrity in terms of hydrology, water quality, and habitat. Land uses currently anticipated in each subbasin may be modified or relocated to determine the environmental impact of different land use configurations. The alternatives would reflect land use scenarios that would likely have differing effects on the riparian ecosystem integrity of the watershed.

(f) Protection of High Integrity Areas (Function-Based Approach). One or more alternatives would focus on maximizing the protection/preservation of areas with high functional integrity with respect to aquatic resource hydrology, water quality, and habitat. The alternative(s) would eliminate certain land uses based on their effects on high integrity resources.

(g) Avoidance of Jurisdictional Wetlands. Under this alternative, impacts to wetlands under the jurisdiction of the Corps would be avoided. However, the alternative would contemplate some level of impact to non-wetland jurisdictional waters, such as ephemeral and intermittent streams.

(h) Updated General Plans/MSCP/Subbasin Functional Assessment Criteria. This alternative contemplates that land uses would proceed consistent with general plan updates as likely to be adopted by the applicable jurisdiction. Under this alternative, the likely changes in land use type and location that would occur under the revised General Plans for the City and County of San Diego would be analyzed. In addition, the alternative would recognize the preserve system designated under the MSCP; however, additional areas could be set aside for the protection, enhancement, and restoration of aquatic resources. These additional areas would be identified based on the goal of achieving certain ecological integrity targets and other physical and biological considerations.

3. Scoping Process: The Corps' scoping process for the DEIS will involve soliciting written comments and a public meeting. Potentially significant issues to be analyzed in the DEIS include aquatic resources, surface water quality, threatened and endangered species, cultural resources, cumulative, and growth inducing impacts.

4. In order for the EIS to be utilized by the state and local agencies to satisfy the requirements of CEQA, the EIS will include a separate discussion of feasible mitigation measures for each significant impact.

5. Other environmental review, consultation requirements, or considerations include compliance with section 106 of the National Historic Preservation Act and section 7 of the Endangered Species Act.

Public Scoping

A public scoping meeting to receive input on the scope of the DEIS will be conducted on April 29, 2008 from 7 p.m.-9 p.m. at the City of Chula Vista Department of Public Works Building located at 1800 Maxwell Road, Chula Vista, CA 91911. This meeting will address both the SAMP and the MSAA. The public scoping will be conducted in an open-house format.

Comments on the scope of the DEIS will be accepted from the public until June 18, 2008.

Schedule

The estimated date the DEIS will be made available to the public is December 2009.

Dated: April 14, 2008.
Mark Durham,
Chief, South Coast Branch, Regulatory Division.

[FR Doc. E8-8523 Filed 4-18-08; 8:45 am]

BILLING CODE 3710-KF-P